DEPARTMENT OF EDUCATION

RIN 1855-ZA06

Transition to Teaching

AGENCY: Office of Innovation and Improvement, Department of Education.

ACTION: Notice of final priorities and requirements.

SUMMARY: The Deputy Under Secretary for Innovation and Improvement announces two priorities under the Transition to Teaching program. The Deputy Under Secretary may use one or more of these priorities for competitions in fiscal year (FY) 2004 and later years. We take this action to focus Federal financial assistance on State efforts to create or expand alternative routes to teacher certification and district efforts to streamline teacher hiring systems and processes. We intend for the priorities to help States and districts under this program to lower barriers to certification and hiring and increase the number of highly qualified teachers who are recruited into teaching from nontraditional sources. The Deputy Under Secretary also announces minimum requirements that are needed for efficient grant competitions for FY 2004 and future years, and to ensure that grantees focus their program funds on direct costs of their projects.

Effective Date: These priorities and requirements are effective June 1, 2004.

FOR FURTHER INFORMATION CONTACT: Thelma Leenhouts, U.S. Department of Education, 400 Maryland Avenue, SW., room 3C102, Washington, DC 20202-5942. Telephone: (202) 260-0223 or via Internet: Thelma.Leenhouts@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

General

With the beginning of the 2002-2003 school year, Title I of the Elementary and Secondary Education Act of 1965 (ESEA), as reauthorized by the No Child Left Behind Act of 2001, Public Law 107-110 (NCLB), required that all newly hired teachers of core academic subjects who teach in Title I programs be highly qualified, and, by the end of the 2005-2006 school year, Title I requires that all school district teachers of core academic subjects be highly qualified. Both States and local districts face challenges in meeting these requirements.

The Transition to Teaching program is designed to address these challenges by helping high-need schools operated by high-need local educational agencies (LEAs) secure and retain the highly qualified teachers that students in those schools need to help them achieve to challenging academic standards. It does so by encouraging the development and expansion of alternative pathways to teacher certification, and by supporting local programs that make use of these alternative pathways to recruit, hire, and retain highly qualified teachers.

Transition to Teaching projects: (1) Recruit as teachers talented mid-career professionals, recent college graduates who have not completed a teacher preparation program, and qualified school paraprofessionals; and (2) help these individuals to become successfully certified and licensed classroom teachers in high-need schools of high-need LEAs.

Through this notice, we establish two funding priorities for this program. The Department may decide to use these priorities in the FY 2004 competition and in future competitions as well. One priority focuses on State projects to create or expand, and then implement, alternative pathways to teacher certification. The other priority focuses on school district projects to streamline teacher hiring systems, timelines, and processes.

Establishing these priorities makes it possible to focus program funds at both the State level, where decisions on teacher certification requirements are made, and at the district level, where responsibility for hiring resides. These priorities are designed to open up certification through alternative pathways and to streamline district hiring practices, both of which are necessary to help States and LEAs improve their recruitment practices and, by doing so, address the NCLB highly qualified teacher requirement and increase the overall quality of their teaching force.

We published a notice of proposed priorities and requirements for this program in the Federal Register on February 20, 2004 (69 FR 7914-7919).

Analysis of Comments and Changes

In response to our invitation in the notice of proposed priorities and requirements, 13 parties submitted comments on the proposed priorities and requirements. An analysis of the comments and of any changes in the priorities and requirements since publication of the notice of proposed priorities and requirements follows.

We group our discussion of the issues raised by the commenters into two groups—proposed priorities and proposed requirements. Generally, we do not address technical and other minor changes—and suggested changes the law does not authorize us to make under the applicable statutory authority. However, in this notice, we have included a discussion of comments that were related to statutory issues so that we can provide needed clarification on these issues.

Proposed Priorities

Comment: While generally pleased with Priority 1, which focuses on creation or expansion of alternative routes to certification as the vehicle for recruiting and hiring teachers in high-need schools operated by high-need LEAs, one commenter recommended that we permit independent State teacher certification agencies to apply for a grant on their own behalf rather than jointly with the State educational agencies (SEAs).

Discussion: The ESEA does not permit an independent State teacher certification agency to apply on its own behalf for a grant under this program. Section 2313(b) of the ESEA provides that the following entities are eligible to receive a Transition to Teaching grant: An SEA, a high-need LEA, a for-profit or not-for-profit organization that has a proven record of effectively recruiting and retaining highly qualified teachers in a partnership with a high-need LEA or SEA, or an institution of higher education in partnership with a high-need LEA or with an SEA, or consortia of SEAs or high-need LEAs.

Section 9101(41) of the ESEA defines an SEA as “the agency primarily responsible for the State supervision of public elementary schools and secondary schools.” An independent State teacher certification agency would not meet this definition. Thus, absent a change in the statute, to be eligible for a grant under this program, an independent State teacher certification agency may only apply in partnership with a high-need LEA or SEA.

Change: None.

Comments: One commenter recommended the elimination of Priority 2, which focuses on streamlining district hiring systems and policies. The commenter stated that the proposed priority does not address the major obstacles to teacher recruitment and placement, which the commenter characterized as State fiscal issues and legislative unresponsiveness. Two other commenters expressed support for this priority, indicating that it addresses a critical need.

Discussion: While State budget constraints and legislative inaction may indeed impede district efforts to hire highly qualified and effective teachers, they are beyond the capacity of this program to address. On the other hand, the priority addresses a barrier that is a significant one for large numbers of school districts throughout the country, especially urban ones. In this regard, research conducted by The New Teacher Project and described in its 2003 publication, “Missed Opportunities: How We Keep High-Quality Teachers Out of Urban Classrooms,” confirms that untimely and inefficient district hiring policies and practices result in the inability to hire large numbers of qualified individuals already recruited to teach in urban school districts. Through this priority, the Transition to Teaching program can support local efforts to address this problem.

Change: None.

Comments: Four commenters recommended the addition of a third priority focusing on the preparation of teachers of English as a Second Language (ESL) and bilingual teachers who could address the critical needs of English language learners in their States. One commenter recommended a priority for bilingual teachers with expertise in mathematics, science, English, and social studies.

Discussion:­ We have acknowledged the need for teachers of English language learners by including ESL in the definition of “high-need subjects” in which a recruited individual may teach. However, we do not believe that the competition should favor recruitment of teachers of particular subgroups of students or in particular subject areas. Rather, we believe that applicants should be free to tailor their program applications to address the teacher-shortage needs of the high-need LEAs that would participate in the project, including the need for ESL and bilingual teachers.

Change: None.

Proposed Requirements

Comments: A few commenters recommended revisions in proposed requirements that would require statutory changes. For example, commenters recommended revising the proposed requirement that participants who want to teach in secondary schools must have completed an academic major or the equivalent in the core academic subject the participants would teach. One commenter suggested, in the alternative, that individuals who would teach in secondary schools be eligible to participate if they have passed the State standardized subject matter competency examination in the core academic subject they will teach. Commenters further recommended that we: (1) Eliminate the requirement that participants, other than qualified mid-career changers (including qualified paraprofessionals), have graduated from institutions of higher education not less than three years before seeking a teaching position through this program; (2) eliminate the requirement that prospective teachers be placed only in high-need schools operated by high-need LEAs; and (3) expand program eligibility to include organizations that train older workers as teachers' aides, thereby allowing these agencies to partner with school districts in order to increase the number of teachers' aides.

Finally, one commenter expressed concern about the definition of high-need LEA, particularly paragraphs (b)(1) and (2) of section 2102(3) of the ESEA. This provision, applicable to the Transition to Teaching program by virtue of section 2102(3), requires that in addition to having high poverty a high-need LEA have “(1) a high percentage of teachers not teaching in the academic subjects or grade levels the teachers were trained to teach, or (2) a high percentage of teachers with emergency, provisional, or temporary certification or licensing.” Given State policy changes in response to the highly qualified teacher requirements of NCLB, the commenter stressed that districts will experience increasing difficulty in being able to meet either element of this criterion.

Discussion: These commenters all seek changes to statutory provisions governing a participant's eligibility and service obligation, contained in sections 2312(1) and (2) and 2313(i) of the ESEA. We have no authority to make the changes the commenters seek.

With regard to the definition of “high-need LEA” in sections 2102(3) and 2312(2) of the ESEA, we are aware that, as they implement the highly qualified teacher requirements in sections 1119 and 9101(23) of the ESEA, fewer and fewer LEAs will have high percentages of uncertified teachers or teachers teaching out of field. The law sets as a goal that, by the end of the 2005-2006 school year, LEAs will have only certified teachers with demonstrated content knowledge teaching in core academic subjects, and hence LEAs would have no teachers teaching these subjects out-of-field.

As we discuss under the Definitions heading in the “Requirements for the FY 2004 and Future Year Grant Competitions and Award of Funds” section of this notice, the Department is continuing to determine the “high percentage” of uncertified teachers that would enable an LEA—with the requisite level of poverty—to meet the definition of a “high-need LEA” on the basis of national data that States report under section 207 of the Higher Education Act of 1965, as amended (HEA). In their HEA reports, States annually provide the Department, among other things, with the percentages of teachers for LEAs as a whole and for high-poverty LEAs who are teaching with some kind of waiver of State certification requirements, i.e., the percentage of teachers who LEAs report to their States are uncertified. For the FY 2002 Transition to Teaching program competition, the Department determined that the average percentage of teachers on waivers in high-poverty LEAs, as reflected in the October 2001 HEA State reports, was the best proxy for a high percentage of teachers with emergency, provisional, or temporary certification or licensing that would permit an LEA to qualify as “high-need.”

The most recent HEA reports submitted in October 2003 indicate that the national average of uncertified teachers in high-poverty LEAs last year was eight (8) percent, down from eleven (11) percent in the 2001-02 school year. However, in reconsidering this matter we believe that it is reasonable to consider a “high percentage” of teachers with emergency, provisional, or temporary certification or licensing to be equal to or greater than the national average percentage of teachers on waivers in all LEAs as reported in the most current HEA reports—rather than the average percentage only in high-poverty LEAs. All high-need LEAs must meet the statutory criterion of high poverty. But we see no reason to further restrict the number of LEAs that can benefit from this program by also requiring that they have at least the national percentage of teachers on waivers in high-poverty LEAs.

Change: For purposes of the FY 2004 and future year competitions, an LEA that meets the poverty threshold of the definition of “high-need LEA” will be considered a high-need LEA if it has at least the percentage of teachers on waivers of State certification as the national average of all LEAs. To demonstrate that it meets this requirement, the LEA will use the data it provided to the State on the percentage of its teachers on waivers of State certification, and which the State then used in completing its most recent HEA report to the Secretary.

Comment: One commenter requested that we define the term “highly-qualified paraprofessional” so that applicants would know which paraprofessionals may be recruited into teaching positions.

Discussion: Section 2312(1) of the ESEA provides that individuals eligible to participate in Transition to Teaching programs include “an individual with substantial demonstrable career experience, including a highly-qualified paraprofessional.” While the section of the statute authorizing the Transition to Teaching program does not define this term, it is defined in section 2102(4) of the ESEA (for the Title II, part A program) as “a paraprofessional who has not less than 2 years of—

(A) Experience in the classroom; and

(B) Postsecondary education or demonstrated competence in a field or academic subject for which there is a significant shortage of qualified teachers.”

Section 2123(a)(2)(C)(ii) of the ESEA uses this term to identify paraprofessionals whom LEAs may recruit to become teachers, through alternative routes to teacher certification, with the use of Title II, part A funds. Given the comparability of that provision with the thrust of the Transition to Teaching program, we believe it is reasonable to adopt this same definition of highly qualified paraprofessional for this program.

Change: The final requirements for this competition include the definition of “highly qualified paraprofessional” contained in section 2102(4) of the ESEA.

Comments: Two commenters recommended that teachers who already have certification or licensure in one subject area be eligible to participate in Transition to Teaching projects in order to retrain and become recertified in high-need subject areas. One commenter supported the proposed requirement that these teachers not be eligible.

Discussion: The Transition to Teaching program statute provides that projects are to increase the number of teachers in high-need schools operated by high-need LEAs. The program is designed and intended to bring into teaching individuals from non-teaching careers, not to provide financial support to existing teachers who want to change their current areas of certification. Other ESEA program funds, such as those available under Title II, part A, are available if a district chooses to use funds for this purpose.

Change: None.

Comments: Three commenters recommended that individuals who are already teaching on a provisional, temporary, or emergency license be eligible to participate in the Transition to Teaching program. The commenters believe that our proposal to prohibit individuals who are teaching on a provisional, temporary, or emergency license prior to recruitment into the Transition to Teaching program from participating in Transition to Teaching projects would unfairly exclude a desirable group from participating in the program.

Discussion: We do not dispute that many individuals now teaching on a provisional, temporary, or emergency teaching license are dedicated and have demonstrated an interest in teaching. The Department proposed this requirement so that, consistent with the Transition to Teaching program's purpose, projects would focus their recruitment efforts on bringing new individuals into teaching through alternative routes. However, we do not wish to preclude individuals now teaching on a provisional, temporary, or emergency license from participating in the program if they are otherwise eligible under the definition of eligible participant in section 2312(1).

Change: The program requirements have been revised so that individuals who are now teaching but have not yet acquired full State certification may participate in the Transition to Teaching program provided they meet the eligibility requirements in section 2312(1), i.e., they either have substantial, demonstrable career experience, or are recent college graduates (within three years of graduation).

Comment: One commenter recommended that the definition of a “high-need subject” not be limited to the proposed core academic subjects and special education and ESL, but rather include any subjects that a participating LEA determines to be high-need.

Discussion: We do not minimize the need for high-need schools in high-need LEAs to have teachers of other subjects. However, the Transition to Teaching program is intended to support the overall purpose and goal of NCLB: helping all students to achieve to high State academic standards so that no child is left behind. This program does so by providing financial support to help recruit, place, and train individuals from other career experiences to become highly qualified and effective teachers in high-need schools operated by high-need LEAs through alternative route programs.

Consistent with the purpose of NCLB as a whole, we continue to believe it is important that those who will operate Transition to Teaching projects use program funds to recruit teachers who can help students to achieve in the core academic subjects that are of highest priority in NCLB. The ESEA defines these subjects in section 9101(11). We have expanded the permissible subject areas in which participants of this program may teach to include special education and English as a Second Language (ESL) because of the substantial need that many high-need LEAs have for teachers in these areas who can help students with disabilities and English language learners become proficient in the ESEA core academic subjects.

Change: None.

Comment: One commenter recommended that we clarify the repayment requirement in the Transition to Teaching statute because of recent confusion regarding its implementation.

Discussion: As section 2313(j) of the ESEA requires, we are in the process of drafting proposed requirements to govern the repayment of scholarships and other financial incentives by eligible participants who do not meet their three-year service obligation. These proposals will be published in the Federal Register for public review and comment before they are issued as final.

Change: None.

Note: This notice does not solicit applications. In any year in which we choose to use these priorities and requirements, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) Awarding additional points, depending on how well or the extent to which the application meets the competitive priority (34 CFR 75.105(c)(2)(i); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Priority 1—State Projects to Create or Expand, and Then Implement, Alternative Pathways to Teacher Certification

This priority supports projects designed and implemented by an SEA or a consortium of SEAs and the respective teacher certification agency of each State (if different from the SEA) to create or expand, and then implement, alternative pathways to certification. The project period is up to five years. Grantees will need to conduct both of the following activities:

(a) Create alternatives to the State's traditional certification requirements. In conducting this activity, States are encouraged to develop a variety of alternative pathways to certification as important options in their menu of State-approved procedures for teacher certification and licensure. For example, competency-based alternative routes would permit talented individuals interested in teaching to become fully certified through rigorous assessments of their content and professional teaching competence, thereby enabling LEAs to recruit from a larger and more talented pool of prospective teachers.

(b) Use the alternative routes to recruit individuals from groups eligible to participate in the Transition to Teaching program. Funded projects also would, among other things, need to work with participating high-need LEAs to—

(1) Increase the number and quality of mid-career changers, recent college graduates who have not majored in education, and qualified paraprofessionals recruited to teach high-need subjects (such as mathematics, science, and special education) in identified high-need LEAs (which may include LEAs that are charter schools), particularly those in urban and rural areas; and

(2) Provide these newly hired teachers with the support they need to become certified and effective teachers who will choose to make teaching their new long-term profession.

In particular, SEAs receiving project funds must—

(i) Target recruitment efforts on, and rigorously screen, candidates in areas where participating high-need LEAs have documented teacher shortages (e.g., mathematics, science, and special education);

(ii) Place prospective teachers only in high-need schools operated by high-need LEAs;

(iii) Prepare individuals for specific positions in specific LEAs and place them in these positions early in the training process;

(iv) Ensure that recruited teachers receive the specific training they need to become fully certified or licensed teachers; and

(v) Have recruited teachers participate in a well-supervised induction period that may include the support of experienced, trained mentors.

Priority 2—District Projects to Streamline Teacher Hiring Systems, Timelines, and Processes

This priority supports projects by one or more high-need LEAs to streamline their hiring systems, timelines, and processes. The project period is up to five years. A participating high-need LEA will need to conduct both of the following activities:

(a) Examine its current hiring system, processes, and policies to identify the critical barriers to hiring highly qualified teachers. The lack of highly qualified teachers in most urban and rural LEAs has often been attributed to their difficulty in recruiting interested and qualified individuals. However, recent research indicates that the problem may not be one of recruitment but may stem from inefficient and untimely LEA hiring systems and processes. This is especially true in high-poverty LEAs and schools—the very LEAs and schools the Transition to Teaching program is targeted to serve. Accordingly, each participating LEA will need to examine its current hiring processes and policies and, based upon that examination, identify the critical barriers to hiring highly qualified teachers.

(b) Design and implement efforts to remove the identified barriers and put in place systems that streamline and revamp the hiring process. In conducting this activity, LEAs are encouraged to create an efficient and timely applicant hiring process with a strong data tracking system and clear hiring goals. These efforts also should involve negotiating policy reforms that remove critical barriers, such as delayed notification of vacancies and seniority and retirement rules.

Participating LEAs also will carry out the requirements of the Transition to Teaching program by recruiting nontraditional candidates, using the streamlined hiring system to hire these individuals for teaching in high-need schools, working with them to achieve full State certification, and retaining them for at least three years.

Requirements for the FY 2004 and Future Year Grant Competitions and Award of Funds

In order to promote both a fair and efficient program competition and appropriate uses of Transition to Teaching program funds, the Deputy Under Secretary announces the following requirements to govern grant competitions and awards in FY 2004 and later years. For the most part, these requirements are the same as those that the Department announced in the Federal Register on June 17, 2002 (67 FR 41221-41224) and successfully used for the FY 2002 Transition to Teaching program competition and grants awarded under it. The Notice Inviting Applications for New Awards for Fiscal Year 2002 is available on the Internet at the following site: www.gpoaccess.gov/fr/index.html. The only exceptions concern:

• A requirement, discussed in the section “Application Content”, under which each applicant will need to include in its application a statement that each participating LEA will, rather than intends to, hire project participants, assuming that it has positions to fill and is satisfied that the participants are qualified to teach these subjects;

• A requirement discussed in the section “Participant Eligibility”, that closes a loophole that has permitted some grantees to recruit existing teachers into their projects; and

• Use of the average percentage of teachers with waivers of State certification requirements in all LEAs, rather than the average percentage in only high-poverty LEAs—as reflected in State reports submitted to the Department under section 207 of the HEA—as the measure of when an LEA with the required degree of poverty has a “high percentage” of teachers with emergency, provisional, or temporary certification or licensing, and so is a high-need LEA under this program.

1. Application content. Section 2313(d)(2)(C) of the ESEA requires applicants to describe in their applications how they will use the funds received to recruit and retain individuals to teach in high-need schools operated by high-need LEAs. In addition, section 2313(i) of the ESEA requires that individuals who participate in training provided under this program serve in a high-need school operated by a high-need LEA for at least three years. In this regard, an implicit purpose of this program and the ESEA as a whole is to help ensure that all students are able to achieve to high standards, principally in the core academic subjects defined in section 9101(11) of the ESEA. To ensure that all grantees properly implement their projects, each applicant will need to include information in its application, as the Secretary may require, that confirms that it (if it is an LEA) or each LEA with which it will work—

(a) Is a high-need LEA;

(b) Has identified for the grantee the high-need subjects for which teachers are needed; and

(c) Will hire individuals recruited through the project to meet the LEA's teaching needs, assuming that the LEA still has positions to fill and is satisfied that the individuals are qualified to teach those subjects.

2. Definitions. High-need LEA. Section 2102(3) of the ESEA defines “high-need LEA” to mean an LEA that—

(a)(1) Serves not fewer than 10,000 children from families with incomes below the poverty line, or (2) for which not less than 20 percent of the children served by the LEA are from families with incomes below the poverty line; and

(b) For which there is (1) A high percentage of teachers not teaching in the academic subjects or grade levels the teachers were trained to teach, or (2) a high percentage of teachers with emergency, provisional, or temporary certification or licensing.

An applicant (or a grantee, should the grantee wish to add an LEA to a Transition to Teaching project after receiving a grant award) will need to demonstrate to the Department that each LEA that will participate in the project satisfies the definition of high-need LEA. The applicant (or grantee) will need to do so on the basis of the most recent data available in the year in which the Department approves the LEA's participation in the project. In this regard, we announce the following for each of these two components of the definition—

• For component (a) of “high-need LEA,” the only consistent available data for all LEAs that reflect the statutory requirement for use of the total number or percentage of individuals age 5-17 from families below the poverty line (as the term is defined in section 9101(33) of the ESEA) are data from the U.S. Census Bureau. Therefore, absent a showing of alternative LEA data that meets this statutory definition, the eligibility of an LEA as a “high-need LEA” under component (a) must be determined on the basis of the most recent satisfactory Census Bureau data; we will identify the year of these data to be used in any announcement of a program competition for awards in FY 2004 and future years. (We will provide further information on this subject in the application package for this program that will be available for each competition. This information will include the Internet web site where one may obtain the LEA poverty data that the Census Bureau reports, and the kinds of poverty data the Department will accept for any LEA that is not included on this Internet web site.)

• For component (b)(1) of the definition of “high-need LEA,” we interpret this phrase “not teaching in the academic subjects or grade levels that the teachers were trained to teach” as equivalent to “a high percentage of teachers teaching out of field.” The Department does not have available to it suitable data with which to define what a high percentage is. Therefore, LEAs that rely on component (b)(1) will need to demonstrate to the Department's satisfaction that they have a high percentage of teachers teaching out of field. The Department will review this aspect of an LEA's proposed eligibility on a case-by-case basis. To avoid uncertainty, an LEA might choose instead to try to meet this eligibility test under component (b)(2).

• For component (b)(2) of “high-need LEA,” the best data available to the Department on the percentage of teachers with emergency, provisional, or temporary certification or licensing come from the reports on the quality of teacher preparation that States annually provide to the Department in October of each year under section 207 of the HEA. In these reports, States provide the percentage of teachers in their LEAs teaching on waivers of State certification, both on a statewide basis and in high-poverty LEAs. For purposes of the program's FY 2002 competition, an LEA had a “high percentage” of teachers with emergency, provisional, or temporary certification or licensing if the percentage of teachers on waivers, as the LEA reported to the State for purposes of the State's October 2001 report to the Secretary, was at least the national average percentage of teachers on waivers in high-poverty LEAs—11 percent.

For reasons expressed in the “Analysis of Comments and Changes” section, for purposes of the FY 2004 and subsequent program competitions, an LEA has a “high percentage” of teachers with emergency, provisional, or temporary certification or licensing if the percentage of teachers on waivers, as the LEA reported to the State for purposes of the State's latest HEA report to the Secretary, was at least the national average percentage of teachers on waivers of State certification, for all LEAs—rather than just for high-poverty LEAs. Therefore, for the FY 2004 competition, an LEA will be considered to have a high percentage of teachers with emergency, provisional, or temporary certification or licensing if the percentage of teachers on waivers that it reported to the State for purposes of the State's October 2003 HEA report was at least six percent.

Note: For that October 2003 report, teachers on a waiver of State certification requirements included uncertified teachers who were participating in State-approved alternative route programs.

Based on information in future HEA State reports, we will publish the most current national percentage of uncertified teachers in all LEAs in any announcement of a program competition for awards in future years. To satisfy component (b)(2) of the definition of a high-need LEA, an LEA will need to be able to confirm that, at the time it would participate in a Transition to Teaching project, it has at least the percentage of uncertified teachers as the Department announces is a “high percentage” based on the most currently available HEA section 207 State reports.

High-need subject. For purposes of the Transition to Teaching program, a high-need subject means English, reading or language arts, mathematics, science, foreign languages, civics and government, economics, arts, history, geography, special education, and English as a second language (ESL). These subjects include the “core academic subjects” specified in section 9101(11) of the ESEA and the subjects of special education and ESL.

High-need SEA. Section 2313(c) of the ESEA requires the Department to give priority in awarding grants under the program to applications from “a partnership or consortium that includes a high-need State educational agency or local educational agency.” However, the ESEA does not define the term high-need SEA. As was the case for the FY 2002 competition, for purposes of this priority we define a high-need SEA as an SEA of a State that includes at least one high-need LEA.

Highly qualified paraprofessional. For purposes of the Transition to Teaching program, a highly qualified paraprofessional means a paraprofessional who has not less than two years of—

(A) Experience in a classroom, and

(B) Postsecondary education or demonstrated competence in a field or academic subject for which there is a significant shortage of qualified teachers.

3. Application review process. Section 2313(b) of the ESEA provides that an eligible applicant for a Transition to Teaching grant must be—

(a) An SEA;

(b) A high-need LEA;

(c) A for-profit or nonprofit organization that has a proven record of effectively recruiting and retaining highly qualified teachers, in a partnership with a high-need LEA or with an SEA;

(d) An institution of higher education (IHE), in a partnership with a high-need LEA or with an SEA;

(e) A regional consortium of SEAs; or

(f) A consortium of high-need LEAs.

Given the wide variety of entities that may apply for grants under this program, the Department expects the scope of proposed recruitment, training, and placement efforts to vary widely. For example, a nonprofit organization might propose activities in various communities throughout the nation, an SEA might propose activities to be conducted on a statewide basis, and an LEA might propose activities that will focus on its own teaching needs. It is likely that if applications from these various entities were reviewed in a single application pool, reviewers would have difficulty evaluating the relative merits of the projects. In addition, the Department is interested in supporting projects of different types that can serve as potential models of recruitment, training, and retention through alternative routes to teaching. Given these factors, and in order to evaluate fairly the relative merits of applications proposing projects of such widely varied scope, we will review applications in FY 2004 and later years as we did in the FY 2002 program competition—in three different applicant pools, depending on whether the LEAs to benefit from the project are located—

(a) In more than one State;

(b) Statewide or in more than one area of a State; or

(c) In a single area of a State.

When the Department announces a competition, it will provide an estimate of the number and size of awards to be made from applications in each category. However, the Department intends to reserve the right to adjust these estimates based on the number of high-quality applications in each pool and as a whole, without regard to the relative scores of applications in each of the three applicant pools.

Finally, because of the variety of entities that may apply for grants under this program, it is possible that an LEA might be the recipient of services under both (1) its own application and (2) the application of the SEA of the State in which the LEA is located, an educational service agency that is a high-need LEA, or a nonprofit organization. In this event, should those applications propose duplicative activities the Department will offer the LEA a choice of receiving its own grant award or participating in the other entity's project. Should the LEA choose to receive its own award, the Department will adjust the other entity's grant award accordingly.

4. Participant eligibility. Section 2312(1) provides that an individual is eligible to participate in the Transition to Teaching program if the individual (a) has substantial, demonstrable career experience, including as a highly qualified paraprofessional, or (b) is a graduate of an IHE who—

(1) Has graduated not more than three years before applying to join a Transition to Teaching project in order to become a teacher, and

(2) In the case of an individual wishing to teach in a secondary school, has completed an academic major (or courses totaling an equivalent number of credit hours) in the academic subject that the individual will teach.

The purpose of the Transition to Teaching program is to provide financial support to enable grantees to recruit individuals from their non-teaching positions and, through alternative routes to State certification, help high-need LEAs to hire and retain them as teachers of high-need subjects. Indeed, section 2313(d)(2)(E) requires each application to describe how the proposed project will increase the number of highly qualified teachers teaching high-need academic subjects (in high-need schools operated by high-need LEAs). Consistent with this provision and the program's overall purpose, individuals who already have State teacher certification or licenses are not eligible to participate in Transition to Teaching projects. Individuals who are teaching on a provisional, temporary, or emergency license prior to recruitment into the program, are eligible to participate provided they meet the eligibility requirements in section 2312(1) of the ESEA and thereby qualify either as a mid-career professional or a recent college graduate (within three years of graduation).

5. Evaluation and accountability. Section 2314 of the ESEA requires grantees to submit to the Department and to the Congress interim and final reports at the end of the third and fifth years of the grant period, respectively. Subparagraph (b) of section 2314 provides that these reports must contain the results of the grantee's interim and final evaluations, which must describe the extent to which high-need LEAs that received funds through the grant have met their goals relating to teacher recruitment and retention as described in the project application.

However, while each funded project must promote the recruitment and retention of new teachers in specific identified LEAs, eligible grant recipients are not limited to LEAs. Therefore, it is possible that one or more funded projects will not provide funding to participating LEAs. In order that all project evaluations provide relevant information on the extent to which the project is meeting these LEA goals, the interim and final evaluations will need to describe the extent to which LEAs that either receive program funds or otherwise participate in funded projects have met their teacher recruitment and retention goals.

6. Limitation on indirect costs. The success of the Transition to Teaching Program depends upon how well grantees and the high-need LEAs with which they work recruit, hire, train, and retain highly qualified individuals from other professions and backgrounds to become teachers in high-need subjects. If the program is to achieve its purpose, we need to ensure that all appropriated funds are used as effectively as possible. To do so, we believe it is necessary to place a reasonable limitation on the amount of program funds that grant recipients may use to reimburse themselves for the indirect costs of program activities. Therefore, we place a reasonable limit on the indirect cost rate that all grantees and other recipients of program funds may use in determining the amount of indirect costs they may charge to their Transition to Teaching awards. As was the case for grants awarded under the FY 2002 competition, this limit is the lesser of eight percent or the recipient's negotiated restricted indirect cost rate.

For reasons we have offered in a limited number of other competitive grant programs that focus on improving teacher quality, we believe that a similar limitation on a recipient's indirect costs is necessary here to ensure that Transition to Teaching program funds are used to secure the new teachers that Congress intended. See, e.g., the discussion of (1) 34 CFR 611.61, as proposed, that governs the Teacher Quality Enhancement Grants program authorized by Title II, part A of the HEA (65 FR 6936, 6940 (February 11, 2000)), and (2) requirements for the FY 2002 grants competition under the School Leadership program authorized by Title II, part A, subpart 5 of the ESEA (67 FR 36159, 36162 (May 23, 2002)), and under this Transition to Teaching program (67 FR 41223-24 (June 17, 2002)).

Executive Order 12866

This notice of final priorities and requirements has been reviewed in accordance with Executive Order 12866. Under the terms of the order, we have assessed the potential costs and benefits of this regulatory action.

The potential costs associated with the notice of final priorities and requirements are those resulting from statutory requirements and those we have determined as necessary for administering this program effectively and efficiently.

In assessing the potential costs and benefits—both quantitative and qualitative—of this notice of final priorities and requirements, we have determined that the benefits of the final priorities and requirements justify the costs.

We have also determined that this regulatory action does not unduly interfere with State, local, and tribal governments in the exercise of their governmental functions.

Summary of potential costs and benefits: Elsewhere in this notice we discuss the potential costs and benefits of these final priorities and requirements under the SUPPLEMENTARY INFORMATION section.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

(Catalog of Federal Domestic Assistance Number 84.350 Transition to Teaching)

Program Authority: 20 U.S.C. 6681 et seq.

Dated: April 27, 2004.
Nina Shokraii Rees,
Deputy Under Secretary for Innovation and Improvement.

[FR Doc. 04-9852 Filed 4-29-04; 8:45 am]

BILLING CODE 4000-01-P